DEPARTMENT OF COMMERCE

National Oceanic and Atmospheric Administration

RIN 0648-XG047

Marine Mammals; File No. 21321

AGENCY: National Marine Fisheries Service (NMFS), National Oceanic and Atmospheric Administration (NOAA), Commerce.

ACTION: Notice; receipt of application for permit amendment.

SUMMARY: Notice is hereby given that Pacific Whale Foundation (300 Ma'alaea Rd., Suite 211, Wailuku, HI 96793; Responsible Party: Stephanie Stack) has applied for an amendment to Scientific Research Permit No. 21321.

DATES: Written, telefaxed, or email comments must be received on or before July 5, 2019.

ADDRESSES: The application and related documents are available for review by selecting “Records Open for Public Comment” from the “Features” box on the Applications and Permits for Protected Species home page, https://apps.nmfs.noaa.gov, and then selecting File No. 21321 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Courtney Smith or Amy Hapeman, (301) 427-8401.

SUPPLEMENTARY INFORMATION: The subject amendment to Permit No. 21321 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226).

Permit No. 21321, issued on April 23, 2018 (83 FR 21765), authorizes the permit holder to take false killer whales Pseudorca crassidens (including the endangered Main Hawaiian Islands insular false killer whale distinct population segment) by vessel and unmanned aerial surveys within near- and off-shore waters of the Maui 4-island region (Hawaii) to assess their distribution, abundance, social organization, population structure, population size, foraging, reproduction, movements, habitat use, body condition, and behavior.

The permit holder is requesting the permit be amended to include authorization to take an additional 20 cetacean species by the same aerial and vessel research activities for the same purposes: Bottlenose (Tursiops truncatus); Pantropical spotted (Stenella attenuata), Risso's (Grampus griseus), Rough-toothed (Steno bredanensis), Short-beaked common dolphin (Delphinus delphis), Spinner (Stenella longirostris), and Striped (Stenella coeruleoalba) dolphins; and Blainville's beaked (Mesoplodon densirostris), Bryde's (Balaenoptera brydei), Cuvier's beaked (Ziphius cavirostris), Dwarf sperm (Kogia sima), Fin (Balaenoptera physalus), Humpback (Megaptera novaeangliae), Killer (Orcinus orca), Melon-headed (Peponocephala electra), Minke (Balaenoptera acutorostrata), Pygmy killer (Feresa attenuata), Pygmy sperm (Kogia breviceps), Short-finned pilot (Globicephala macrorhynchus), and Sperm whales (Physeter microcephalus).

Additionally, the applicant requests to add a new procedure to take all authorized and requested species by close approach using a small, underwater remote operated vehicle (ROV). Take numbers for each species and take method are outlined in the amendment request take table.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: May 31, 2019.
Julia Marie Harrison,
Chief, Permits and Conservation Division, Office of Protected Resources, National Marine Fisheries Service.

[FR Doc. 2019-11689 Filed 6-4-19; 8:45 am]

BILLING CODE 3510-22-P